DEPARTMENT OF HEALTH AND HUMAN SERVICES

Substance Abuse and Mental Health Services Administration

Fiscal Year (FY) 2001 Funding Opportunities

AGENCY: Substance Abuse and Mental Health Services Administration, HHS.

ACTION: Notice of funding availability.

SUMMARY: The Substance Abuse and Mental Health Services Administration (SAMHSA) Center for Mental Health Services (CMHS) announces the availability of FY 2001 funds for cooperative agreements for the following activity. This notice is not a complete description of the activity; potential applicants must obtain a copy of the Guidance for Applicants (GFA), including Part I, Cooperative Agreement to Provide Minority Community-based HIV/AIDS Related Mental Health Treatment and Education Services, and Part II, General Policies and Procedures Applicable to all SAMHSA Applications for Discretionary Grants and Cooperative Agreements, before preparing and submitting an application.

Activity | Application deadline | Est. funds FY 2001 | Est. No. of awards | Project period
Minority HIV/AIDS Mental Health Services | May 21, 2001 | $9.4 million* | 24-26* | 5 years*.
* See the text below for more details on the funding, number of awards, and the project period. This will vary with the three types of awards.

The actual amount available for the award may vary, depending on unanticipated program requirements and the number and quality of application received. FY 2001 funds for the activity discussed in this announcement were appropriated by Congress under Public Law No. 106-310. SAMHSA's policies and procedures for peer review and Advisory Council review of grant and cooperative agreement application were published in the Federal Register (Vol. 58, No. 126, page 35962) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Mental Health Services Knowledge Exchange Network (KEN), PO Box 42490, Washington, DC 20015, Telephone: 1-800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA) Center for Mental Health Services (CMHS) announces the availability of FY 2001 funds for cooperative agreements to expand the service capacity targeted to meet unmet mental health treatment needs of individuals living with HIV/AIDS who are African American, Hispanic/Latino, and/or from other racial and ethnic minority communities. An adjunct purpose is to train and improve the skills of individuals in African American, Hispanic/Latino, and/or other racial and ethnic minority communities who provide mental health care and emotional support in traditional and/or non-traditional settings. This program will consist of HIV/AIDS related mental health treatment services, HIV/AIDS and mental health education services, and a coordinating center. The expansion of HIV/AIDS related mental health treatment services, education, and training will assist health care providers and community support systems to identify and address mental health issues specifically related to HIV/AIDS; will increase referrals to HIV/AIDS and/or mental health services by community stakeholders; and enhance the coordination/integration of HIV/AIDS services with mental health services. To achieve this end, community-based organizations serving minority clients will be targeted and engaged as key liaisons to community members, health care providers, and resources. Such an approach will enable (1) coordinated and integrated services to be tailored to the needs of each community, and (2) the identification and/or application of culturally competent components of treatment and education services. The coordinating center will ensure the collection and analysis of process and descriptive information/data as well as relevant GPRA outcome data pertaining to common measures across the sites.

Eligibility: For the HIV/AIDS Related Mental Health Treatment Services: applications may be submitted by domestic private/public non-profit community-based organizations that serve predominantly racial and ethnic minority disproportionally impacted by the HIV/AIDS epidemic (i.e., African Americans, Hispanics/Latinos, and other racial/ethnic minorities). Applicants must have the capacity and experience to provide HIV/AIDS related mental health treatment services to the targeted population(s). Community Mental Health Centers or other community health facilities operated by local governments or jurisdictions, as well as Indian tribes and tribal organizations, may apply.

Other than these entities, governmental entities are not eligible for funding under this GFA (i.e., city, county, and State governments). This eligibility restriction reflects congressional report language and the need to work directly at both traditional and non-traditional community levels in building a community HIV/AIDS related mental health infrastructure of treatment services.

Examples of community-based organizations eligible to apply include: HIV/AIDS service entities; mental health service entities, including community mental health centers; substance abuse treatment entities; behavioral health or entities targeting co-occurring illnesses; primary care/medical service entities; or any combination of the above as long as they are community based.

For the HIV/AIDS and Mental Health Education and Training: applications may be submitted only by community-based organizations that are applying for the mental health treatment services grants in this GFA. Applications may be for the expansion of a promising or proven community-based education/training program or for the development of a new community-based education/training program.

For the Coordinating Center, applications may be submitted by domestic public and private non-profit entities for the Coordinating Center cooperative agreement awards. Applicants for the Coordinating Center may not apply for the mental health treatment service grants.

Availability of Funds: Approximately $6 million will be available annually for approximately 15 community-based HIV/AIDS-mental health treatment service awards. The average annual award per site should range from $350,000 to $450,000 in total costs (direct and indirect). Approximately $2 million will be available annually for approximately 8-10 awards to document HIV/AIDS and mental health education and training at the community level to applicants who are applying for a mental health treatment services award. The average annual training award will range from $150,000 to $350,000 per site in addition to the base treatment service award. Awards may be requested for up to five (5) years. Approximately $1.4 million is available for the program Coordinating Center on an annual basis. The actual funding level will depend on the number and size of the education/training activities funded at the mental health treatment site. An award for the coordinating center must be requested for five years.

Period of Support: Support for the 15 community-based HIV/AIDS mental health treatment service awards and the 8-10 HIV/AIDS and mental health education and training at the community level may be requested for up to 5 years. The award for the coordinating center must be requested for 5 years. All annual continuation awards depend on the availability of funds and progress achieved.

Criteria for Review and Funding:

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions on treatment services program issues and the coordinating center, contact: Mary C. Knipmeyer, Director, HIV/AIDS Treatment Adherence, Health Outcomes and Cost Study, Office of the Associate Director for Medical Affairs, Center for Mental Health Services, Substance Abuse and Mental Health Services Administration, 5600 Fishers Lane, Room 15-81, Rockville, MD 20857, Telephone: 301-443-0688, E-mail: mknipmey@samhsa.gov.

For questions on education/training program issues, contact: Barbara J. Silver, Director HIV/AIDS Education and Prevention Program, Office of the Associate Director for Medical Affairs, Center for Mental Health Services, Substance Abuse and Mental Health Services Administration, 5600 Fishers Lane, Room 15-81, Rockville, MD 20857, Telephone: (301) 443-7817, E-mail: bsilver@samhsa.gov.

For questions regarding grants management issues, contact: Gwen Simpson, Division of Grants Management, OPS, Substance Abuse and Mental Health Services Administration, 5600 Fishers Lane, Rm 13-103, Rockville, MD 20857, (301) 443-4456, E-mail: gsimpson@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 14, 2001.
Richard Kopanda,
Executive Officer, Substance Abuse and Mental Health Services Administration.

[FR Doc. 01-6824 Filed 3-19-01; 8:45 am]

BILLING CODE 4162-20-M